DEPARTMENT OF COMMERCE

National Oceanic and Atmospheric Administration

[I.D. 110802A]

Endangered Species; File No. 1405

AGENCY: National Marine Fisheries Service (NMFS), National Oceanic and Atmospheric Administration (NOAA), Commerce.

ACTION: Issuance of permit.

SUMMARY: Notice is hereby given that the South Carolina Department of Natural Resources, Charleston, SC 29422-2559, has been issued a permit to take loggerhead (Caretta caretta), Kemp's ridley (Lepidochelys kempi), green (Chelonia mydas), leatherback (Dermochelys coriacea), and hawksbill (Eretmochelys imbricata) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320.

FOR FURTHER INFORMATION CONTACT: Ruth Johnson (301)713-2289 or Patrick Opay (301) 713-1401.

SUPPLEMENTARY INFORMATION: On November 25, 2002, notice was published in the Federal Register (67 FR 70583) that a request for a scientific research permit to take loggerhead, Kemp's ridley, leatherback, hawksbill, and green sea turtles had been submitted by the above-named individual. The requested permit has been issued under the authority of the Endangered Species Act of 1973, as amended (ESA; 16 U.S.C. 1531 et seq.) and the regulations governing the taking, importing, and exporting of endangered and threatened species (50 CFR parts 222-226).

The applicant will handle, tag, measure, weigh, photograph and release the above mentioned sea turtles in order to collect data from in-water captures that can be used by management agencies and scientists for better understanding of these species and to promote their protection and recovery.

Issuance of this permit, as required by the ESA, was based on a finding that such permit (1) was applied for in good faith, (2) will not operate to the disadvantage of the endangered or threatened species which are the subject of this permit, and (3) is consistent with the purposes and policies set forth in section 2 of the ESA.

Dated: July 30, 2003.
Stephen L. Leathery,
Chief, Permits, Conservation and Education Division, Office of Protected Resources, National Marine Fisheries Service.

[FR Doc. 03-19934 Filed 8-4-03; 8:45 am]

BILLING CODE 3510-22-S